DEPARTMENT OF ENERGY

Federal Energy Regulatory Commission

[Project No. 12775-001]

City of Spearfish, SD; Notice of Availability of Final Environmental Assessment

November 8, 2010.

In accordance with the National Environmental Policy Act of 1969 and the Federal Energy Regulatory Commission's (Commission or FERC) regulations, 18 Code of Federal Regulations (CFR) Part 380 (Order No. 486, 52 Federal Register (FR) 47897), the Office of Energy Projects has reviewed the city of Spearfish's application for license for the Spearfish Hydroelectric Project (FERC Project No. 12775-001), located on Spearfish Creek near the city of Spearfish, in Lawrence County, South Dakota. The existing, but unlicensed project occupies a total of 57.26 acres of federal lands within the Black Hills National Forest managed by the U.S. Forest Service.

Staff prepared a final environmental assessment (EA), which analyzes the potential environmental effects of licensing the project, and concludes that licensing the project, with appropriate environmental protective measures, would not constitute a major federal action that would significantly affect the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support. For further information, contact Joseph Adamson by telephone at (202) 502-8085 or by e-mail at joseph.adamson@ferc.gov.

Kimberly D. Bose,
Secretary.

[FR Doc. 2010-28906 Filed 11-16-10; 8:45 am]

BILLING CODE 6717-01-P